FEDERAL RETIREMENT THRIFT INVESTMENT BOARD

Sunshine Act Notice

Time and Date: 10 a.m. (EDT) August 19, 2002.

Place: 4th Floor, Conference Room, 1250 H Street, NW., Washington, DC.

Status: Parts will be open to the public and part closed to the public.

Matters To Be Considered

Parts Open to the Public

1. Approval of the minutes of the July 15, 2002, Board member meeting.

2. Thrift Savings Plan activity report by the Executive Director (with discussion of litigation to be closed to the public).

3. Review of investment policy.

4. Review of Ernst & Young semiannual financial review.

Part Closed to the Public

Discussion of litigation.

CONTACT PERSON FOR MORE INFORMATION: Thomas J. Trabucco, Director, Office of External Affairs, (202) 942-1640.

Dated: August 6, 2002.
Elizabeth S. Woodruff,
Secretary to the Board, Federal Retirement Thrift Investment Board.

[FR Doc. 02-20263 Filed 8-6-02; 3:33 pm]

BILLING CODE 6760-01-M